DEPARTMENT OF HEALTH AND HUMAN SERVICES

Centers for Disease Control and Prevention

[Docket No. CDC-2020-0001; NIOSH-333]

Developing a Workplace Supported Recovery Program: A Strategy for Assisting Workers and Employers With the Nation's Opioid and Substance Use Disorder Epidemics: Request for Information

AGENCY: National Institute for Occupational Safety and Health (NIOSH) of the Centers for Disease Control and Prevention (CDC), Department of Health and Human Services (HHS).

ACTION: Request for information.

SUMMARY: The National Institute for Occupational Safety and Health (NIOSH), within the Centers for Disease Control and Prevention (CDC), announces an opportunity to provide input on a NIOSH plan to develop resources and conduct research on the topic of Workplace Supported Recovery. Workplace Supported Recovery programs (WSRPs) assist workers and employers facing the nation's crisis related to the misuse of opioids and other drugs, and related substance use disorders.

DATES: Comments must be received April 27, 2020.

ADDRESSES: You may submit written comments, identified by docket numbers CDC-2020-0001 and NIOSH-333, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2020-0001; NIOSH-333]. All relevant comments received will be posted without change to http://www.regulations.gov, including any personal information provided.

FOR FURTHER INFORMATION CONTACT: L. Casey Chosewood, NIOSH, 1600 Clifton Road, NE; Mailstop V24-4, Atlanta, GA 30329; phone: 404-498-2483 (not a toll-free number); email: twh@cdc.gov.

SUPPLEMENTARY INFORMATION: The United States is in the midst of a drug overdose epidemic. More than 70,000 Americans died of drug overdoses in 2017, more than any year on record. Two-thirds of drug overdoses involved an opioid.¹ About 44 percent of adults with a substance use disorder are employed full-time and an additional 10 percent are employed part-time.² A 2017 National Safety Council survey found that 70 percent of employers reported experiencing the negative effects of prescription drug misuse at the organizational level, noting recruitment issues related to positive drug tests, absenteeism, injuries, and overdoses within the workplace.³ Misuse of any drug, including prescription drugs, may impact the ability of a person to function safely in the workplace and may also hinder return to work following an injury or illness, negatively affecting their livelihood.

¹ Hedegaard H, Minino AM, Warner M [2018]. Drug overdose deaths in the United States, 1999-2017. NCHS Data Brief No. 329. Hyattsville, MD: National Center for Health Statistics, November. https://www.cdc.gov/nchs/products/databriefs/db329.htm.

² SAMHSA [2017]. 2016 National Survey on Drug Use and Health. Washington, DC: Substance Abuse and Mental Health Service Administration, https://nsduhweb.rti.org/respweb/homepage.cfm.

³ NSC [2017]. How the prescription drug crisis is impacting American employers. Itasca, IL: National Safety Council, https://www.nsc.org/Portals/0/Documents/NewsDocuments/2017/Media-Briefing-National-Employer-Drug-Survey-Results.pdf.

The effects of substance use and misuse are not isolated to work or home environments, and the potential for developing a substance use disorder may be preceded by injuries that happen in the workplace, with the consequences affecting both an individual's working life as well as their home life. Regardless of the circumstances that may have led to substance misuse, employment is a key goal among individuals in recovery.⁴ Work can also provide a sense of purpose and the income needed to participate in community life, and the workplace offers social networks that provide support and friendship. By using Total Worker Health® principles,⁵ NIOSH is developing solutions to help workers and employers facing the drug crisis in their communities. To that end, NIOSH is interested in developing resources and conducting research on the topic of Workplace Supported Recovery.

⁴ Laudet AB [2012] Rate and predictors of employment among formerly polysubstance dependent urban individuals in recovery. J Addict Dis 31(3):288-302.

⁵ Total Worker Health® is a registered trademark of the U.S. Department of Health and Human Services. For more information, please visit: https://www.cdc.gov/niosh/twh/totalhealth.html

In a Workplace Supported Recovery program (WSRP), employers use evidence-based policies and programs to reduce the risk factors associated with initiating substance misuse and the progression to a substance use disorder and take steps to assist workers in recovery in staying at work or returning to work. WSRP efforts could potentially include, but would not necessarily be limited to, the following:

Preventing work-related injuries and illnesses;

Promoting the use of alternatives to opioids for pain relief associated with a workplace injury or illness;

Preventing initiation of misuse;

Developing return-to-work plans for employees after medical treatment;

Supporting second chance employment, a process that allows for workers in recovery to rejoin the workforce after a job loss related to drug misuse;

Providing accommodations, including access to medication-based or medication-assisted treatment (MAT) together with individual counseling;

Offering peer support groups; and

Peer coaching.

NIOSH is interested in input related to WSRPs from a variety of stakeholders, including employers, labor unions, workers, researchers, treatment providers, and government agencies at all levels (Federal, state, territorial, local, and tribal). Information and data from interested parties is requested on the following questions:

General Questions

1. What elements, attributes, activities, and resources should be involved in a Workplace Supported Recovery program (WSRP)? Describe why inclusion would benefit a WSRP.

2. How do the elements, attributes, activities, and resources that make up WSRPs vary by industry and establishment size?

3. What WSRPs or related approaches are you aware of? Do any of these programs have evaluation or other outcome measures available?

4. Are you aware of any programs that may help employers fund or otherwise develop WSRPs? If so, what are they?

5. What information is available about possible benefits for employers in hiring and/or retaining workers who are in recovery from substance misuse or a substance use disorder?

6. What are the biggest concerns, fears, or challenges around WSRPs? If available, please provide any data or information to support these concerns.

7. What training related to this effort would be of value to managers/supervisors? To workers?

Questions About Workplaces

8. Are you aware of policies that organizations (including yours) have in place to address substance misuse and substance use disorder and, if so, what are they? (e.g., pre-employment drug testing, hiring, dismissal, disability, medical leave, benefits, and compliance with or implementation of Fair Labor Standards Act provisions)

9. Which parts of your organization are involved in issues related to substance misuse or substance use disorders among your workers? (e.g., employee bargaining units, occupational health, safety department, human resources department, Employee Assistance Program)

Questions About Workplaces With a Recovery Program in Place

10. What services are offered as part of the program? Are there any limits or restrictions on these resources (e.g., position in organization, duration, eligibility)? If so, what are they?

11. Are any of these services available to employees dealing with the substance use disorder of another person, such as a spouse/partner, child, parent, or close friend? If so, what are they?

12. What major challenges and successes has your program had?

John J. Howard,
Director, National Institute for Occupational Safety and Health, Centers for Disease Control and Prevention.

[FR Doc. 2020-03785 Filed 2-25-20; 8:45 am]

BILLING CODE 4163-18-P